SMALL BUSINESS ADMINISTRATION

[Declaration of Disaster #3555]

State of California (Amendment #5)

In accordance with a notice received from the Department of Homeland Security—Federal Emergency Management Agency, effective February 3, 2004, the above numbered declaration is hereby amended to reopen the incident period for this disaster as beginning October 21, 2003 and continuing through and including March 31, 2004.

All other information remains the same, i.e., the deadline for filing applications for physical damage remains as January 9, 2004, and for economic injury the deadline is July 27, 2004.

(Catalog of Federal Domestic Assistance Program Nos. 59002 and 59008)
Dated: February 5, 2004.
Herbert L. Mitchell,
Associate Administrator for Disaster Assistance.

[FR Doc. 04-3035 Filed 2-11-04; 8:45 am]

BILLING CODE 8025-01-P